DEPARTMENT OF LABOR

Employment and Training Administration

[TA-W-60,267]

Guide Louisiana, LLC, Including Onsite Leased Workers of Securitex, Ouachita Parish School Board, Continental Design & Engineering, Prestige Technical Services, and GE Manufacturing, Monroe, LA; Amended Determinations Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 17, 2006, applicable to workers of Guide Louisiana LLC, Monroe, Louisiana.

At the request of the State agency representative, the Department reviewed the certification for workers of the subject firm. New information shows that leased workers of Securitex, Ouachita Parish School Board, Continental Design & Engineering, Prestige Technical Services, and GE Manufacturing were employed on-site at the Monroe, Louisiana location of Guide Corporation.

Based on these findings, the Department is amending this certification to include leased workers of Securitex, Ouachita Parish School Board, Continental Design & Engineering, Prestige Technical Services and GE Manufacturing working on-site at Guide Louisiana LLC, Monroe, Louisiana.

The intent of the Department's certification is to include all workers employed at Guide Louisiana LLC, Monroe, Louisiana, who were involved in production and were adversely affected by increased customer imports.

The amended notice applicable to TA-W-60,267 is hereby issued as follows:

All workers of Guide Louisiana LLC, including on-site leased workers of Securitex, Ouachita Parish School Board, Continental Design & Engineering, Prestige Technical Services and GE Manufacturing, Monroe, Louisiana, who became totally or partially separated from employment on or after November 19, 2006, through November 17, 2008, are eligible to apply for adjustment assistance under Section 223 of the Trade Act of 1974, and are also eligible to apply for alternative trade adjustment assistance under Section 246 of the Trade Act of 1974.

Signed in Washington, DC, this 9th day of February 2007.
Richard Church,
Certifying Officer, Division of Trade Adjustment Assistance.

[FR Doc. E7-2864 Filed 2-20-07; 8:45 am]

BILLING CODE 4510-FN-P